DEPARTMENT OF TRANSPORTATION

Federal Highway Administration

Notice of Final Federal Agency Action on Proposed Transportation Project in Illinois and Indiana

AGENCY: Federal Highway Administration (FHWA), DOT.

ACTION: Notice of Limitation on Claims for Judicial Review of Actions by FHWA and United States Fish and Wildlife Service (USFWS), DOI.

SUMMARY: This notice announces actions taken by the FHWA and USFWS that are final within the meaning of 23 U.S.C. 139(l)(1). The actions relate to a proposed highway project, the Illiana Corridor, between Interstate 55 (I-55) in Will County, Illinois on the west, and Interstate 65 (I-65) in Lake County, Indiana on the east. The Federal actions, taken as a result of a tiered environmental review process under the National Environmental Policy Act, 42 U.S.C. 4321-4351 (NEPA), and implementing regulations on tiering, 40 CFR 1502.20, 40 CFR 1508.28, and 23 CFR part 771, determined certain issues relating to the proposed project. Those Tier Two decisions will be used by Federal agencies in subsequent proceedings, including decisions whether to grant licenses, permits, and approvals for the proposed highway project. Tier Two decisions also may be relied upon by State and local agencies in proceedings on the proposed project.

DATES: By this notice, the FHWA is advising the public of final agency actions subject to 23 U.S.C. 139(l)(1). A claim seeking judicial review of the Tier Two Federal agency actions of the proposed highway project will be barred unless the claim is filed on or before May 21, 2015. If the Federal law that authorizes judicial review of a claim provides a time period of less than 150 days for filing such claim, then that shorter time period still applies.

FOR FURTHER INFORMATION CONTACT: Ms. Catherine A. Batey, Division Administrator, Federal Highway Administration, 3250 Executive Park Drive, Springfield, Illinois 62703; telephone: (217) 492-4600; email address: Catherine.Batey@dot.gov. The FHWA Illinois Division Office's normal business hours are 7:30 a.m. to 4:15 p.m. (Central Standard Time). For the USFWS: Ms. Louise Clemency, Field Supervisor, Chicago Ecological Services Field Office, USFWS, 1250 South Grove Avenue, Suite 103, Barrington, IL 60010; telephone: (847) 381-2253; email: Louise_Clemency@fws.gov. Normal business hours for the USFWS Chicago Ecological Field Office are: 8:00 a.m. to 4:30 p.m. (Central Standard Time). You may also contact Mr. John Fortmann, P.E., Illinois Department of Transportation, Deputy Director of Highways, Region One Engineer, 201 West Center Court, Schaumburg, Illinois 60196; telephone: (847) 705-4000. The Illinois Department of Transportation Region One's normal business hours are 8:00 a.m. to 4:30 p.m. (Central Standard Time). You may also contact Mr. James Earl, P.E., Project Manager, Indiana Department of Transportation, 100 North Senate Avenue IGCN Room N642, Indianapolis, IN 46204; telephone: (317) 233-2072. The Indiana Department of Transportation's normal business hours are 8:00 a.m. to 4:00 p.m. (Eastern Standard Time).

SUPPLEMENTARY INFORMATION: Notice is hereby given that the FHWA has issued a Record of Decision (ROD) in connection with the proposed highway project in Illinois and Indiana: the Illiana Corridor between I-55 in Will County, Illinois and I-65 in Lake County, Indiana. Decisions in the Tier Two ROD include, but are not limited to the following:

a. The purpose and need for the project, including goals to improve regional mobility, alleviate local system congestion and improve local system mobility, and provide for efficient movement of freight in the Illiana Corridor between I-55 on the west and I-65 on the east.

b. The selection of Alternative 1 with IL-53 interchange Design Option 4 that generally starts at I-55 north of Wilmington, Illinois, connects to I-57 south of Peotone, Illinois, passes south of the proposed South Suburban Airport and Beecher, Illinois, and connects with I-65 northeast of Lowell, Indiana. It is typically 400 feet in width.

c. The elimination from further consideration and study of Alternatives 2 and 3, and IL-53 interchange Design Options 2, 3, 5 and 6.

d. The description of measures to minimize harm that are proposed as conditions of implementing the Illiana Corridor.

Notice is also given by the USFWS, pursuant to the Endangered Species Act, 16 U.S.C. 1531-1544, that the Illiana Corridor project may effect, likely to adversely affect the sheepnose mussel (Plethobasus cyphyus). This finding was confirmed in a Biological Opinion and Incidental Take Statement issued on November 20, 2014. In addition, the USFWS issued a Conference Opinion for the northern long-eared bat (Myotis septentrionalis) which is proposed for federal listing as endangered, and is incorporated in this Biological Opinion. The document further sets forth proposed conservation recommendations, and mitigation requirements for the sheepnose mussel, the Eryngium stem borer moth (Papaipema eryngii), and the northern long-eared bat.

Interested parties may consult the Tier Two ROD and Final Environmental Impact Statement (FEIS) for further information on each of the decisions described above.

The Tier Two actions by the Federal agencies, and the laws under which such actions were taken, are described in the FEIS approved September 17, 2014, the ROD approved December 10, 2014, and in other documents in the FHWA project records. The scope and purpose of the Tier Two FEIS are described in Section 1.0 of the FEIS. The Tier Two FEIS, ROD, and other documents in the FHWA project file are available by contacting the FHWA or the Illinois or Indiana Departments of Transportation at the addresses provided above. The Tier Two FEIS and ROD also are available online at http://illianacorridor.org/.

This notice applies to all Federal agency decisions as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.].

6. Water Resources: Safe Drinking Water Act [42 U.S.C. 300(f)-300(j)(6)]; Wild and Scenic Rivers Act [16 U.S.C. 1271-1287].

7. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program.)

Authority: 23 U.S.C. 139(l)(1).

Issued on: December 10, 2014.
Catherine A. Batey,
Division Administrator, Springfield, Illinois.

[FR Doc. 2014-29652 Filed 12-19-14; 8:45 am]

BILLING CODE 4910-22-P